DEPARTMENT OF ENERGY

[Docket Nos. EA-287]

Application To Export Electric Energy; Emera Energy U.S. Subsidiary No. 1, Inc.

AGENCY: Office of Fossil Energy, DOE.

ACTION: Notice of application.

SUMMARY: Emera Energy U.S. Subsidiary No. 1, Inc. (Emera Energy Sub No.1) has applied to export electric energy from the United States to Canada, pursuant to section 202(e) of the Federal Power Act.

DATES: Comments, protests or requests to intervene must be submitted on or before April 9, 2004.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On January 30, 2004, Emera Energy Sub No. 1 applied to the Department of Energy (“DOE”) for authority to export electric energy from the Unites States to Canada. Emera Energy Sub No. 1, a Delaware corporation with its principal place of business in Rye, New Hampshire, is a wholly-owned direct subsidiary of Emera Incorporated, a Nova Scotia corporation that is a diversified energy and services company. Emera Energy Sub No. 1 does not own or control any electric generation or transmission facilities nor does it have a franchised service area. Emera Incorporated owns and operates transmission facilities in the United States through its operating divisions. Emera Energy Sub No. 1 will be engaged in the marketing of power as both a broker and as a marketer of electric power at wholesale. Emera Energy Sub No. 1 plans to purchase the power that it will export from cogeneration facilities, Federal power marketing agencies, electric utilities and exempt wholesale generators within the United States.

In FE Docket No. EA-287, Emera Energy Sub No. 1 proposes to export electric energy to Canada and to arrange for the delivery of those exports to Canada over the international transmission facilities owned by Eastern Maine Electric Cooperative, Joint Owners of the Highgate Project, Maine Electric Power Company, Maine Public Service Company, Vermont Electric Power Company, and Vermont Electric Transmission Company.

The construction of each of the international transmission facilities to be utilized by Emera Energy Sub No. 1 has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Emera Energy Sub No. 1 application to export electric energy to Canada should be clearly marked with Docket EA-287. Additional copies are to be filed directly with Calvin Bell, Emera Energy Services, Inc., One Cumberland Place, Suite 102, Bangor, ME 04401, Deborah C. Brentani, Wendy N. Reed, Wright & Talisman, P.C., 1200 G Street, NW., Suite 600, Washington, DC 20005 and Mr. Richard J. Smith, Assistant Secretary, Emera Energy U.S. Subsidiary No. 1, Inc., c/o Emera Incorporated, 1894 Barington Street, 18th Floor, Barrington Tower, P.O. Box 910, Halifax, Nova Scotia, CANADA B3J 2W5.

A final decision will be made on this application after the environmental impact has been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Electricity Regulation,” and then “Pending Proceedings” from the options menus.

Issued in Washington, DC, on March 4, 2004.
Ellen Russell,
Acting Deputy Director, Electric Power Regulation, Office of Coal & Power Import/Export, Office of Coal & Power Systems, Office of Fossil Energy.

[FR Doc. 04-5360 Filed 3-9-04; 8:45 am]

BILLING CODE 6450-01-P